DEPARTMENT OF JUSTICE

Agency Information Collection Activities; Revision of a Previously Approved Collection, With Change; Comments Requested: COPS Progress Report

Correction

In notice document 2013-25701, appearing on page 64979 in the issue of Wednesday, October 30, 2013, make the following correction:

On page 64979, in the second column, beginning on the first line, “[insert the date 60 days from the date this notice is published in the Federal Register]” should read “December 30, 2013”.

[FR Doc. C1-2013-25701 Filed 11-20-13; 8:45 am]

BILLING CODE 1505-01-D